COMMODITY FUTURES TRADING COMMISSION

17 CFR Part 23

RIN 3038-AE84

Cross-Border Application of the Registration Thresholds and Certain Requirements Applicable to Swap Dealers and Major Swap Participants; Correction

AGENCY: Commodity Futures Trading Commission.

ACTION: Final rule; correction.

SUMMARY: The Commodity Futures Trading Commission (Commission) is correcting a final rule published in the Federal Register on September 14, 2020. The document addressed the cross-border application of certain swap provisions of the Commodity Exchange Act (“CEA” or “Act”), as added by Title VII of the Dodd-Frank Wall Street Reform and Consumer Protection Act (“Dodd-Frank Act”).

DATES: Effective on November 13, 2020.

FOR FURTHER INFORMATION CONTACT: Joshua Sterling, Director, (202) 418-6056, jsterling@cftc.gov; Frank Fisanich, Chief Counsel, (202) 418-5949, ffisanich@cftc.gov; Amanda Olear, Deputy Director, (202) 418-5283, aolear@cftc.gov; Rajal Patel, Associate Director, (202) 418-5261, rpatel@cftc.gov; Lauren Bennett, Special Counsel, (202) 418-5290, lbennett@cftc.gov; Jacob Chachkin, Special Counsel, (202) 418-5496, jchachkin@cftc.gov; or Owen Kopon, Special Counsel, okopon@cftc.gov, (202) 418-5360, Division of Swap Dealer and Intermediary Oversight (“DSIO”), Commodity Futures Trading Commission, Three Lafayette Centre, 1155 21st Street NW, Washington, DC 20581.

SUPPLEMENTARY INFORMATION: In FR Doc. 2020-16489 appearing on page 56924 in the Federal Register of Monday, September 14, 2020, the following correction is made:

§ 23.23 [Corrected]

1. On page 57001, in the first column, in § 23.23, in paragraph (h)(3)(i), “This section shall be effective on the date that is 60 days following its publication in the Federal Register.” is corrected to read “This section shall be effective on November 13, 2020.”

Dated: October 15, 2020.
Robert Sidman,
Deputy Secretary of the Commission.

[FR Doc. 2020-23167 Filed 11-2-20; 8:45 am]

BILLING CODE 6351-01-P